DEPARTMENT OF TRANSPORTATION

Federal Highway Administration

[Docket No. FHWA-2022-0022]

Notice of Intent To Prepare an Environmental Impact Statement for a Proposed Highway Project; Idaho Falls, Idaho

AGENCY: Federal Highway Administration (FHWA), Department of Transportation (USDOT).

ACTION: Notice of intent to prepare an environmental impact statement.

SUMMARY: The FHWA, in coordination with the Idaho Department of Transportation (ITD), is issuing this Notice of Intent (NOI) to solicit comment and advise the public, agencies, and stakeholders that an Environmental Impact Statement (EIS) will be prepared for transportation improvements to Interstate 15 (I-15) and United States Highway 20 (US20) in Idaho Falls, Bonneville County, Idaho. Persons and agencies who may be interested in or affected by the proposed project are encouraged to comment on the information in this NOI and the NOI Supplementary Information document. All comments received in response to this Notice of Intent will be considered and any information presented herein, including the preliminary purpose and need, preliminary alternatives and identified impacts, may be revised in consideration of the comments.

DATES: Comments on the NOI or the NOI Supplementary Information documents must be received on or before September 14, 2022.

ADDRESSES: This NOI and the NOI Supplementary Information document are available in the docket referenced above at http://www.regulations.gov and on the project website located at http://i15us20connector.com. The NOI Supplementary Information document will also be mailed upon request. All interested parties are invited to submit comments by any of the following methods:

• Website: For access to the documents, go to the Federal eRulemaking Portal located at http://www.regulations.gov or the project website located at http://i15us20connector.com. Follow the online instructions for submitting comments.

• Phone: Lisa Applebee at (208) 334-9180.

• Mailing address or for hand delivery or courier: FHWA Idaho Division, 3050 N Lakeharbor Lane, Boise, ID 83703.

• Email address: lisa.applebee@dot.gov.

• Project email address: comments@i15us20corridor.com.

All submissions should include the agency name and the docket number that appears in the heading of this Notice. All comments received will be posted without change to http://www.regulations.gov or http://i15us20connector.com, including any personal information provided.

The Draft EIS will include a summary of the comments received.

FOR FURTHER INFORMATION CONTACT: For further information and/or to get on the project mailing list, contact Lisa Applebee, Operations Engineer, FHWA Idaho Division, 3050 N Lakeharbor Lane, Boise, ID 83703, (208) 334-9180, lisa.applebee@dot.gov; or Karen Hiatt, Program Engineer, Idaho Transportation Department District 6, 206 North Yellowstone Highway, Rigby, ID 83442, (208) 745-7781; karen.hiatt@itd.idaho.gov.

Persons interested in receiving project information can also use the project email address referenced above to be added to the project mailing list.

SUPPLEMENTARY INFORMATION: The FHWA and ITD are committed to public involvement for this project. All public comments received in response to this notice will be considered and potential revisions will be made to the information presented herein as appropriate. The FHWA, as the lead Federal agency, and ITD as joint lead agency/project sponsor, are preparing an EIS to evaluate transportation solutions on I-15 and US20 in Idaho Falls and Bonneville County, Idaho. The EIS will be prepared in accordance with the requirements of the National Environmental Policy Act (NEPA) of 1969, as amended (42 United States Code [U.S.C.] 4321, et seq.); 23 U.S.C. 139, Council on Environmental Quality (CEQ) regulations implementing NEPA (40 Code of Federal Regulations [CFR] 1500-1508); FHWA regulations implementing NEPA (23 CFR 771.101-771.139); and applicable Federal, State, and local laws and regulations. Pursuant to 23 U.S.C. 168(d) and FHWA regulations regarding incorporation of the results of transportation planning studies as part the overall project development process consistent with NEPA, the results of the I-15/US-20 Planning and Environment Linkages (PEL) Study completed in December 2020 will be incorporated by reference into the EIS. The NOI Supplementary Information document includes additional details about how the PEL study met the statutory conditions in 23 U.S.C. 168. The PEL study report and related documents are available on the project website at http://i15us20connector.com. After completion of the PEL study in December 2020, ITD coordinated with appropriate agencies and major stakeholders to obtain concurrence that the purpose and need, preliminary alternatives, and potentially environmental issues included in the PEL study would be incorporated into the EIS by reference. The interagency planning process for the PEL study has coordination points for the Cooperating Agencies. These coordination points are intended to signify that the information is sufficient for each agency's purpose in the fulfillment of their respective statutory requirements. All public comments will be considered and changes may be made to the proposed project as a result.

To ensure that a full range of issues are addressed in the EIS and potential issues are identified, comments and suggestions are invited from all interested parties. The FHWA requests comments and suggestions on the purpose and need, potential project alternatives and impacts, and the identification of any relevant information, studies, or analyses of any kind concerning impacts to the quality of the human and natural environment. The purpose of this request is to bring relevant comments, information, and analyses to the attention of FHWA and ITD, as early in the process as possible, to enable the agency to make maximum use of this information in decision making.

Purpose and Need for the Proposed Action

The purpose of this project is to address safety, congestion, mobility, and travel time reliability for efficient movement of people, goods, and services on I-15 and US20 in or near Bonneville County and Idaho Falls. Improvements are necessary to address the following needs: unsafe travel conditions caused by substandard weave/merge distances, unacceptable level of service at signalized ramp terminals, and poor pedestrian and bicycle mobility along and across the corridors. The purpose and need may be revised based on comments received during the comment period on this Notice.

Preliminary Description of the Proposed Action and Alternatives the EIS Will Consider

The proposed action is to reconfigure portions of I-15 and US20 through Idaho Falls, including reconfiguration of the interchange connecting the two highways at Exit 119.

The FHWA/ITD proposes to evaluate two build alternatives and the no action alternative in the EIS. The first build alternative (E3) moves the existing Exit 119 interchange north approximately 2,000 feet and realigns approximately 3,000 feet of US20. The second build alternative (H2) adds a new I-15/US20 interchange approximately two miles north of the existing Exit 119 interchange and realigns approximately three miles of US20. The No Action Alternative assumes no improvements other than those planned by others or implemented as part of routine maintenance.

Additional information on the alternatives, as well as maps and figures illustrating the project location, are provided in the NOI Supplementary Information document available for review in the docket established for this project and on the project website noted in the ADDRESSES section. The alternatives may be revised based on the consideration of public comments. The range of reasonable alternatives will be finalized after consideration of comments received during the comment period on this Notice, and will be documented in the Draft EIS (DEIS).

Summary of Expected Impacts

The EIS will evaluate the potential social, economic, and environmental impacts resulting from the implementation of the build alternatives and the no action alternative. During the PEL study, the public and agencies identified which environmental issues and considerations will require the most attention by ITD to minimize project impacts during the environmental review process, as described below.

• Wetlands and Waters of the United States (U.S.). Both build alternatives would require fill and removal from Waters of the U.S. considered jurisdictional by the U.S. Army Corps of Engineers (USACE) and also impacts to wetlands considered to be jurisdictional by the Idaho Department of Water Resources and Idaho Department of Lands.

• Sections 106 and 4(f) Historic Resources. Both build alternatives have the potential to adversely affect historic properties within the study area. Both alternatives would impact the historic Antares Park neighborhood. In Alternative E3, the relocated I-15/US20 Interchange would impact the historic grain elevators and associated industrial properties adjacent to the Eastern Idaho Railroad. Whereas the Alternative H2 may impact the historic farmstead located near 900 E 49th N and its historic grain elevators and associated agricultural property.

• Section 4(f) Public Parks and Recreational Areas. There is a potential for noise and visual impacts from both build alternatives to public parks and recreational areas that are subject to Section 4(f) protection, including Antares Park, Idaho Falls Greenbelt, and Johns Hole Forebay Park. Both build alternatives would also likely cross the Idaho Falls Riverwalk. However, impacts to the trail would be temporary in nature and include trail detours during construction. Alternative E3 may have minimal impacts to John's Hole Forebay Park and Antares Park. Potential effects to the Section 4(f) properties will be evaluated, avoided or minimized where possible as the project design is refined during the NEPA process and the Section 4(f) evaluation. Based on the preliminary design, it appears that the build alternatives would avoid direct impacts and uses of Russ Freeman Park.

• Environmental Justice. There is the potential for adverse impacts to environmental justice communities due to potential relocations as well as noise and visual impacts. Alternative E3 has the potential for direct and indirect impacts to AH Bush Elementary, the Kingdom Hall Jehovah's Witnesses Church and Antares Park, which are located within the environmental justice communities within the study area of the proposed project. Additional analysis and public involvement will be conducted during the NEPA review to assess if either of the two build alternatives would result in any disproportionately high and adverse impacts on the low-income and minority communities.

The EIS will evaluate the expected impacts and benefits to the resources identified above as well as the following other resources: land use and right-of-way, farmland, social and community resources, economics, air quality, transportation, traffic noise, ecosystem resources (wildlife and threatened and endangered species), hazardous waste sites, and visual resources. The level of review of the identified resources for the EIS will be commensurate with the anticipated impacts to each resource from the proposed project and will be governed by the statutory or regulatory requirements protecting those resources. The analyses and evaluations conducted for the EIS will identify the potential for impacts; whether the anticipated impacts would be adverse; and the appropriate environmental mitigation measures. Additional information on the expected impacts is provided in the NOI Supplementary Information document available for review in the docket established for this project and on the project website as noted in the ADDRESSES section. The FHWA and ITD are inviting public input during the NOI comment period. The identification of impacts for analysis in the DEIS may be revised due to the consideration of public comments.

Anticipated Permits and Other Authorizations

Permits and authorizations anticipated for the project include a USACE Section 404 permit under the Clean Water Act (33 U.S.C. 1344) and Section 401 water quality certification (33 U.S.C. 1341). There is a potential that a Land Release Permit may be required from the Federal Aviation Administration under both of the build alternatives. The USACE has agreed to be a Cooperating Agency, the U.S. Environmental Protection Agency has agreed to be a Participating Agency, and the Federal Aviation Administration has agreed to be a Cooperating Agency.

The FHWA and ITD will prepare evaluations under Section 4(f) of the USDOT Act of 1966, 23 CFR part 774, and Section 6(f) of the Land and Water Conservation Fund Act of 1965, 54 U.S.C. 200302; will perform consultation under Section 106 of the National Historic Preservation Act of 1966, 54 U.S.C. 300101-307108 concurrently with the NEPA environmental review processes; and will consult with the U.S. Fish and Wildlife Service in accordance with Section 7 of the Endangered Species Act of 1973, to determine if additional permits or authorizations are required under any of these authorities.

For the Idaho Falls Regional Airport, a short segment of Alternative E3 would encroach into the Runway 17-35 Protection Zone (RPZ), and Alternative H2 would impact a section of the Runway 20-2 RPZ and the navigable airspace to the northeast of the airport. The ITD will coordinate with the airport sponsor and the FAA to assess and mitigate any impacts to airport safety, and facilitate the required airport land release to ensure the airport sponsor's compliance with all applicable FAA grant assurances.

Schedule for the Decision-Making Process

The project schedule will be established as part of the requirements of the environmental review process under 23 U.S.C. 139 and will comply with 40 CFR 1501.10(b)(2), which requires that environmental reviews and authorization decisions for major infrastructure projects occur within two years (from the date of publication of the NOI to the date of issuance of the Record of Decision (ROD), and all necessary authorizations be issued efficiently and in a timely manner, in cooperation with the FHWA. A current draft of the Agency Coordination Plan, the Public Involvement Plan, and a milestone schedule are included with the NOI Supplementary Information document, which is available for review in the docket established for this project and on the project website as noted in the ADDRESSES section.

The anticipated project schedule is outlined below:

• Agency Scoping Meeting: October 12, 2022

• Public Scoping Meetings: October 18, 2022

• Notice of Availability of the Draft EIS (DEIS): September 2023

• Public Hearing: October 2023

• End of DEIS Comment Period: November 2023

• Issue FEIS/ROD: August 2024

• Issue all Project Permits and Authorization Decisions: December 2024 (if a build alternative is selected)

Description of the Public Scoping Process

Project scoping includes the information developed during the PEL study through agency coordination and public outreach and through coordination activities with resource agencies since the PEL study.

During the PEL study process, resource agencies were consulted regarding potential environmental impacts of the alternatives under consideration and in identifying issues to be addressed during a subsequent NEPA study. In addition, ITD conducted a robust program to involve the community and the public. Public input was requested and received at the following key PEL study milestones:

• Project visioning

• Purpose and Need and project goals

• Screening criteria used for the three levels of screening

• Alternatives development

• Results of Level One, Two, and Three screenings

• Final PEL study recommendations

After the PEL study was published, FHWA and ITD held an early coordination meeting with potential Cooperating and Participating Agencies on June 21, 2021. During the meeting, the agencies reviewed the PEL study findings, including the project purpose and need, the recommended alternatives for NEPA, a summary of key environmental topics, and the study area. The meeting included a discussion of the anticipated roles and responsibilities of Cooperating or Participating agencies, planned pre-NOI activities, and a NEPA milestone schedule. Following the meeting, the draft Agency Coordination Plan with a project schedule and permitting timetable, the draft Public Involvement Plan, and draft resource analysis methodologies were distributed to the agencies for review and comment.

A formal agency scoping meeting will be held October 12, 2022, and public scoping meeting is scheduled for October 18, 2022. Comments will be received from the agencies and the public during a 30-day comment period following the publication of this NOI. Monthly meetings with Cooperating Agencies and periodic meetings with Participating Agencies will be held throughout the environmental review process. The draft Public Involvement Plan and the draft Agency Coordination Plan included with the NOI Supplementary Information document describe how the public and agencies will continue to be engaged during the EIS. The DEIS will be available for public and agency review and comment prior to the DEIS Public Hearing.

Request for Identification of Potential Alternatives, Information, and Analyses Relevant to the Proposed Action

The NOI Supplementary Information document includes the draft statement of purpose and need; a description of the alternatives to be considered; the Agency Coordination Plan and permitting timetable; the Public Involvement Plan; and a NEPA Milestone Schedule. With this Notice, FHWA and ITD request and encourage State, Tribal, and local agencies, and the public to review the NOI and NOI Supplementary Information document and submit comments on any aspect of the project. Specifically, agencies and the public are asked to identify and submit potential alternatives for consideration and any information, such as anticipated significant issues or environmental impacts and analyses, relevant to the proposed action for consideration by the lead and cooperating agencies in developing the DEIS. Any information presented herein, including the preliminary purpose and need, preliminary range of alternatives and identification of impacts may be revised after consideration of the comments. Comments must be received by September 14, 2022.

There are several methods to submit comments as described in the Addresses section of this Notice. Any questions concerning this proposed action, including comments relative to potential alternatives, information, and analyses, should be directed to FHWA at the physical address, email address, or phone number provided in the For Further Information Contact section of this Notice.

Authority: 42 U.S.C. 4321 et seq.; 23 CFR part 771.

Peter J. Hartman,
Division Administrator, Boise, Idaho.

[FR Doc. 2022-17446 Filed 8-12-22; 8:45 am]

BILLING CODE 4910-22-P